DEPARTMENT OF ENERGY

Federal Energy Regulatory Commission

Combined Notice of Filings #1

Take notice that the Commission received the following electric corporate filings:

Docket Numbers: EC14-70-000.

Applicants: Sunrise Power Company, LLC.

Description: Application for Approval under Section 203 of FPA of Sunrise Power Company, LLC.

Filed Date: 3/21/14.

Accession Number: 20140321-5185.

Comments Due: 5 p.m. ET 4/11/14.

Docket Numbers: EC14-71-000.

Applicants: Mesquite Solar 1, LLC.

Description: Application for Authorization of Transfer of Jurisdictional Assets and Request for Expedited Action of Mesquite Solar 1, LLC.

Filed Date: 3/24/14.

Accession Number: 20140324-5221.

Comments Due: 5 p.m. ET 4/14/14.

Take notice that the Commission received the following electric rate filings:

Docket Numbers: ER10-2135-004.

Applicants: Spindle Hill Energy LLC.

Description: Supplement to December 24, 2013 Triennial Report of Spindle Hill Energy LLC.

Filed Date: 3/24/14.

Accession Number: 20140324-5131.

Comments Due: 5 p.m. ET 4/14/14.

Docket Numbers: ER12-540-005; ER12-539-005; ER10-1346-005; ER10-1348-005; ER12-2205-004; ER10-1821-008; ER11-4475-008.

Applicants: APDC, Inc., Atlantic Power Energy Services (US) LLC, Frederickson Power L.P., Manchief Power Company LLC, Meadow Creek Project Company LLC, Rockland Wind Farm LLC, Goshen Phase II LLC.

Description: Errata to December 27, 2013 Updated Market Power Analysis of APDC, Inc., et al.

Filed Date: 3/19/14.

Accession Number: 20140319-5107.

Comments Due: 5 p.m. ET 4/9/14.

Docket Numbers: ER14-1522-000.

Applicants: Midcontinent Independent System Operator, Inc.

Description: 2014-03-24—Entergy March Notice of Succession Supplement to be effective N/A under ER14-1522 Filing.

Filed Date: 3/24/14.

Accession Number: 20140324-5148.

Comments Due: 5 p.m. ET 4/14/14.

Docket Numbers: ER14-1561-000.

Applicants: PJM Interconnection, L.L.C.

Description: PJM submits First Revised Service Agreement No. 3668 to be effective 2/20/2014.

Filed Date: 3/24/14.

Accession Number: 20140324-5139.

Comments Due: 5 p.m. ET 4/14/14.

Docket Numbers: ER14-1562-000.

Applicants: Puget Sound Energy, Inc.

Description: Tacoma IA SA No. 460 to be effective 10/1/2011.

Filed Date: 3/24/14.

Accession Number: 20140324-5150.

Comments Due: 5 p.m. ET 4/14/14.

Docket Numbers: ER14-1563-000.

Applicants: PJM Interconnection, L.L.C.

Description: PJM submits First Revised Service Agreement No. 3667 to be effective 2/20/2014.

Filed Date: 3/24/14.

Accession Number: 20140324-5163.

Comments Due: 5 p.m. ET 4/14/14.

Docket Numbers: ER14-1564-000.

Applicants: PJM Interconnection, L.L.C.

Description: PJM submits First Revised Service Agreement 3666 to be effective 2/20/2014.

Filed Date: 3/24/14.

Accession Number: 20140324-5176.

Comments Due: 5 p.m. ET 4/14/14.

Docket Numbers: ER14-1565-000.

Applicants: Duke Energy Kentucky, Inc., PJM Interconnection, L.L.C.

Description: Original SA No. 3775 and Cancellation of SA No. 3103—AMP-Williamstown NITSA to be effective 5/1/2014.

Filed Date: 3/24/14.

Accession Number: 20140324-5179.

Comments Due: 5 p.m. ET 4/14/14.

Docket Numbers: ER14-1566-000.

Applicants: PJM Interconnection, L.L.C.

Description: PJM submits First Revised Service Agreement No. 3587 to be effective 2/20/2014.

Filed Date: 3/24/14.

Accession Number: 20140324-5184.

Comments Due: 5 p.m. ET 4/14/14.

Docket Numbers: ER14-1567-000.

Applicants: PJM Interconnection, L.L.C.

Description: PJM submits First Revised Service Agreement No. 3586 to be effective 2/20/2014.

Filed Date: 3/24/14.

Accession Number: 20140324-5191.

Comments Due: 5 p.m. ET 4/14/14.

Docket Numbers: ER14-1568-000.

Applicants: ITC Midwest LLC.

Description: Filing of CIAC Agreement with Guthrie County REC to be effective 5/24/2014.

Filed Date: 3/24/14.

Accession Number: 20140324-5194.

Comments Due: 5 p.m. ET 4/14/14.

Docket Numbers: ER14-1569-000.

Applicants: Dynegy Energy Services, LLC.

Description: Application for Market-Based Rate Authorization to be effective 3/25/2014.

Filed Date: 3/24/14.

Accession Number: 20140324-5211.

Comments Due: 5 p.m. ET 4/14/14.

Docket Numbers: ER14-1570-000.

Applicants: PJM Interconnection, L.L.C.

Description: PJM submits First Revised Service Agreement No. 3566 to be effective 2/21/2014.

Filed Date: 3/24/14.

Accession Number: 20140324-5212.

Comments Due: 5 p.m. ET 4/14/14.

Docket Numbers: ER14-1571-000.

Applicants: PJM Interconnection, L.L.C.

Description: PJM submits First Revised Service Agreement No. 3685 to be effective 2/20/2014.

Filed Date: 3/24/14.

Accession Number: 20140324-5213.

Comments Due: 5 p.m. ET 4/14/14.

Docket Numbers: ER14-1572-000.

Applicants: Southern California Edison Company.

Description: LGIA with RE Astoria LLC to be effective 3/26/2014.

Filed Date: 3/25/14.

Accession Number: 20140325-5001.

Comments Due: 5 p.m. ET 4/15/14.

Docket Numbers: ER14-1573-000.

Applicants: Southwestern Electric Power Company

Description: SWEPCO-AECC Bethel Heights FA to be effective 2/24/2014.

Filed Date: 3/25/14.

Accession Number: 20140325-5034.

Comments Due: 5 p.m. ET 4/15/14.

Docket Numbers: ER14-1574-000.

Applicants: Southwestern Electric Power Company.

Description: SWEPCO-AECC Northeast Texarkana 138kV FA to be effective 2/24/2014.

Filed Date: 3/25/14.

Accession Number: 20140325-5037.

Comments Due: 5 p.m. ET 4/15/14.

Take notice that the Commission received the following public utility holding company filings:

Docket Numbers: PH14-7-000.

Applicants: DTE Energy Company.

Description: FERC-65-B Waiver Notification and FERC-65 Notification of Holding Company Status of DTE Energy Company.

Filed Date: 3/25/14.

Accession Number: 20140325-5038.

Comments Due: 5 p.m. ET 4/15/14.

Take notice that the Commission received the following electric reliability filings.

Docket Numbers: RD14-9-000.

Applicants: North American Electric Reliability Corporation, Western Electricity Coordinating Council.

Description: Joint petition for Approval of WECC Regional Reliability Standard IRO-006-WECC-2-Qualified Transfer Path Unscheduled Flow (USF) Relief.

Filed Date: 12/20/13.

Accession Number: 20131220-5432.

Comments Due: 5 p.m. ET 4/24/14.

Docket Numbers: RD14-9-000.

Applicants: Western Electricity Coordinating Council.

Description: Supplemental Information Filing of Western Electricity Coordinating Council.

Filed Date: 3/21/14.

Accession Number: 20140321-5191.

Comments Due: 5 p.m. ET 4/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2014.
Nathaniel J. Davis, Sr.,
Deputy Secretary.

[FR Doc. 2014-07442 Filed 4-2-14; 8:45 am]

BILLING CODE 6717-01-P